DEPARTMENT OF COMMERCE

Submission for OMB Review; Comment Request

The Department of Commerce has submitted to the Office of Management and Budget (OMB) for clearance the following proposal for collection of information under the provisions of the Paperwork Reduction Act (44 U.S.C. chapter 35).

Agency: National Institute of Standards and Technology.

Title: Summer Undergraduate Research Fellowship (SURF) Program Student Applicant Information.

Form Number(s): None.

OMB Approval Number: 0693-0042.

Type of Review: Regular submission.

Burden Hours: 400.

Number of Respondents: 200.

Average Hours Per Response: 2.

Needs and Uses: The purpose of this information is to determine eligible students, selection of students, and placement of students in an appropriate research projects that match their needs, interests, and academic preparation.

Affected Public: Individuals or households.

Frequency: Annually.

Respondent's Obligation: Required to apply to the program.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-3123, or Jasmeet_K._Seehra@omb.eop.gov.

Dated: April 24, 2006.
Gwellnar Banks,
Management Analyst, Office of the Chief Information Officer.

[FR Doc. E6-6387 Filed 4-27-06; 8:45 am]

BILLING CODE 3510-13-P